DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of December 1, 2017 through January 26, 2018. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated; AND (2)(A) or (2)(B) below.

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) the sales or production, or both, of such firm, have decreased absolutely; AND (ii and iii below).

(ii)(I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased; AND

(iii) the increase in imports described in clause (ii) contributed importantly to such workers' separation or threat of separation and to the decline in the sales or production of such firm; OR

(B) Shift in Production or Services to a Foreign Country Path OR Acquisition of Articles or Services From a Foreign Country Path

(i)(I) there has been a shift by such workers' firm to a foreign country in the production of articles or the supply of services like or directly competitive with articles which are produced or services which are supplied by such firm; OR

(II) such workers' firm has acquired from a foreign country articles or services that are like or directly competitive with articles which are produced or services which are supplied by such firm; AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated; AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4)); AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A)); AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register; AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
92,416 | HarbisonWalker International, Inc., HarbisonWalker International Holdings, Inc | Fulton, MO | November 14, 2015.
92,754 | Axeon Specialty Products LLC, Axeon Refining LLC | Paulsboro, NJ | March 24, 2016.
92,820 | International Specialty Steel, LLC, The Crowne Automotive OE, LLC | Detroit, MI | April 12, 2016.
92,986 | Conduent Commercial Solutions, LLC, Conduent Incorporated, Comms and Media, Aerotek | Coos Bay, OR | June 30, 2016.
92,987 | Frye Electronics, Inc | Tigard, OR | June 30, 2016.
93,048 | StarTek USA, Inc., StarTek, Inc | Tell City, IN | July 28, 2016.
93,142 | GM Nameplate, Inc., Washington Division, Account Temps Robert Half, Accounting Principals, etc | Seattle, WA | September 13, 2016.
93,143 | GVL Polymers Inc., LSI Staffing, Aerotek Staffing, ADP TotalSource | Hesston, KS | September 14, 2016.
93,199 | North Pacific Paper Company, LLC, Express Employment Professionals | Longview, WA | October 2, 2016.
93,238 | Appleton Coated LLC, Virtus Holdings LLC, etc | Combined Locks, WI | October 16, 2016.
93,262 | Boyd Coffee Company | Portland, OR | October 27, 2016.
93,262A | Boyd Coffee Company | Eugene, OR | October 27, 2016.
93,279 | INVISTA S.A.R.L., Performance Solutions | Athens, GA | December 12, 2017.
93,282 | Stion Corporation | San Jose, CA | November 3, 2016.
93,282A | Stion Corporation | Hattiesburg, MS | November 3, 2016.
93,283 | Milestone Technologies, Inc., Manpower, Experis, Adecco, Robert Half, Randstad Technologies | Fremont, CA | November 6, 2016.
93,297 | Willis NA, Inc., Willis North America, Inc., Information Technologies, etc | Nashville, TN | November 8, 2016.
93,356 | Weyerhaeuser NR Company, Weyerhaeuser Company, Foster Veneer Division | Sweet Home, OR | December 8, 2016.

The following certifications have been issued. The requirements of Section 222(a)(2)(B) (Shift in Production or Services to a Foreign Country Path or Acquisition of Articles or Services from a Foreign Country Path) of the Trade Act have been met.

TA-W No. | Subject firm | Location | Impact date
92,381 | Seagate Technology LLC | Scotts Valley, CA | November 1, 2015.
92,384 | Mack Trucks, Inc., Powertrain, AB Volvo | Hagerstown, MD | October 7, 2015.
92,590 | MUFG Union Bank, N.A., Operations and Process Excellence Group, Capgemini, EPIP Phase II, etc | Monterey Park, CA | January 27, 2016.
92,726 | Vonage, Customer Care Support | Holmdel, NJ | March 13, 2016.
92,755 | Flex, Flex Ltd., Flextronics, Aerotek, Pro-Tech, Onin | Austin, TX | November 26, 2016.
92,833 | Jamco America, Inc., Engineer and Planning, Jamco Corporation, Alleman Aviation, etc | Everett, WA | April 19, 2016.
92,846 | Ericsson, Inc., Regional North America Engagement Practices Consulting & Systems, etc | Plano, TX | April 26, 2016.
92,861 | Rent-A-Center Texas, L.P., Rent-A-Center, Product Assurance Department, 3Ci, Beacon Hill, etc | Plano, TX | May 1, 2016.
92,871 | Teradyne, Inc., Nextest, CDI Corporation North America Staffing, California Robotics | San Jose, CA | May 4, 2016.
92,976 | Vishay Tansitor, Adecco | Bennington, VT | June 26, 2016.
93,001 | Computer Sciences Corporation (CSC), IS&S Software Business—Americas Region in DIV, DXC Technology | Blythewood, SC | July 7, 2016.
93,009 | Newell Rubbermaid Development, LLC, Graco Children's Products, Baby, Research and Development Group, etc | Exton, PA | July 11, 2016.
93,055 | Best Buy Stores, L.P., Geek Squad Services, Best Buy Company, Best Buy Enterprise Services | Richfield, MN | August 2, 2016.
93,080 | Affinity Specialty Apparel, Inc. d/b/a Affinity Apparel | Moultrie, GA | August 17, 2016.
93,085 | Pharmaceutical Systems, BD Medical, Research & Development, Customer Service, The Act 1 Group, etc | Franklin Lakes, NJ | August 8, 2016.
93,118 | GE Capital US Holdings Inc., General Electric Company, Birlasoft Inc., TCS, Capgemini, etc | Norwalk, CT | August 24, 2016.
93,120 | Resolute Forest Products-US, Calhoun Division, Resolute Forest Products | Calhoun, TN | September 6, 2016.
93,139 | CDM Smith Inc., Information Technology | Boca Raton, FL | September 13, 2016.
93,139A | CDM Smith Inc., Information Technology, KForce, AppleOne, TekSystems, Accountemps, etc | Boston, MA | September 13, 2016.
93,139B | CDM Smith Inc., Information Technology | Charleston, SC | September 13, 2016.
93,139C | CDM Smith Inc., Information Technology | Chicago, IL | September 13, 2016.
93,139D | CDM Smith Inc., Information Technology | Columbia, SC | September 13, 2016.
93,139E | CDM Smith Inc., Information Technology | Columbus, OH | September 13, 2016.
93,139F | CDM Smith Inc., Information Technology | Dallas, TX | September 13, 2016.
93,139G | CDM Smith Inc., Information Technology | Denver, CO | September 13, 2016.
93,139H | CDM Smith Inc., Information Technology | Edison, NJ | September 13, 2016.
93,139I | CDM Smith Inc., Information Technology | Fairfax, VA | September 13, 2016.
93,139J | CDM Smith Inc., Information Technology | Houston, TX | September 13, 2016.
93,139K | CDM Smith Inc., Information Technology | Knoxville, TN | September 13, 2016.
93,139L | CDM Smith Inc., Information Technology | Lisle, IL | September 13, 2016.
93,139M | CDM Smith Inc., Information Technology | Maitland, FL | September 13, 2016.
93,139N | CDM Smith Inc., Information Technology | Manchester, NH | September 13, 2016.
93,139O | CDM Smith Inc., Information Technology | New York, NY | September 13, 2016.
93,139P | CDM Smith Inc., Information Technology | Pittsburgh, PA | September 13, 2016.
93,139Q | CDM Smith Inc., Information Technology | Providence, RI | September 13, 2016.
93,139R | CDM Smith Inc., Information Technology | Raleigh, NC | September 13, 2016.
93,139S | CDM Smith Inc., Information Technology | Rancho Cucamonga, CA | September 13, 2016.
93,139T | CDM Smith Inc., Information Technology | Sacremento, CA | September 13, 2016.
93,139U | CDM Smith Inc., Information Technology | Walnut Creek, CA | September 13, 2016.
93,153 | iQor Global Services LLC, SMX Staffing | St. Petersburg, FL | September 18, 2016.
93,194 | Voya Services Company, Voya Financial, Inc., Voya Retirement Insurance and Annuity Company, etc | Windsor, CT | October 2, 2016.
93,201 | SCA AfH Tissue North America LLC, SW Region Division, On-Call Staffing | Flagstaff, AZ | September 21, 2016.
93,202 | Dex Media, Inc., d/b/a Dex YP, Accenture LLP, Accion Labs Data Solutions, etc | DFW Airport, TX | October 3, 2016.
93,211 | Huntsman P&A Americas LLC, Venator Materials Corporation, Color Pigments, Manpower Agency | St. Louis, MO | October 5, 2016.
93,213 | Windstream Services, LLC, Transport and Alarm Teams, Earthlink Shared Services, LLC, Apex, etc | Vancouver, WA | October 4, 2016.
93,214 | Actuation Technologies, Pelham Plant, Emerson Automation Solutions, Dedicated Personnel, etc | Pelham, AL | October 9, 2016.
93,234 | Knight LLC, Fluid Management, Inc., Select Staffing, Peak Technical Staffing | Irvine, CA | October 16, 2016.
93,235 | Gruma Corporation, Mission Foods, Azteca Milling L.P., Gruma Corporation S.A.B. DE C.V | Irving, TX | October 17, 2016.
93,244 | Cone Denim, LLC, White Oak Plant, Textile Group, Inc | Greensboro, NC | October 20, 2016.
93,245 | Gerresheimer Glass Inc., Moulded Glass Division | Millville, NJ | October 10, 2016.
93,263 | Echo Bay Minerals Company, Kinross Gold Corporation, Spring Clean, Golder Associates Corporation, etc | Republic, WA | November 5, 2017.
93,263A | On-Site Leased Workers from Alaska Aggregate and Aspect Consulting, Echo Bay Minerals Company, Kinross Gold Corporation | Republic, WA | October 24, 2016.
93,274 | Quad Graphics, Inc., Imaging Department, Saratoga Springs Plant | Saratoga Springs, NY | November 2, 2016.
93,278 | Bush Industries of Pennsylvania, Inc., Erie Facility, Kelly Services | Erie, PA | November 14, 2017.
93,278A | Career Concepts, Express Employment Professional, U.S. Security Associates, Bush Industries of Pennsylvania, Inc., Erie Facility | Erie, PA | November 5, 2016.
93,280 | News America Marketing In-Store LLC, Digital IT Communications Department | Wilton, CT | October 10, 2016.
93,285 | TrueBlue, Inc. and StaffManagement, Inc., TrueBlue, Inc., Matrix Finance & Accounting, PeopleReady, Inc | Tacoma, WA | November 6, 2016.
93,285A | StaffManagement, Inc., TrueBlue, Inc | Chicago, IL | November 6, 2016.
93,288 | Zhongding USA (Hannibal) Inc., Buckhorn Rubber, Zhongding USA, Inc., ADP TotalSource, Missouri Staffing | Hannibal, MO | November 8, 2016.
93,293 | Masimo, Marquee Staffing | Irvine, CA | November 8, 2016.
93,295 | RR Donnelley, Digital Solutions Group, 24/7 Staffing Agency | Lancaster, PA | November 8, 2016.
93,304 | Venator Materials Corporation, Color Pigments Division | Easton, PA | November 9, 2016.
93,309 | Smart & Final Stores LLC, Smart & Final Stores, Inc | Commerce, CA | November 13, 2016.
93,315 | Astro Apparel, Inc., Express Employment | Scranton, PA | November 16, 2016.
93,323 | Payless ShoeSource, Inc., Customer Support Center, Cognizant Technology Solutions | Topeka, KS | November 22, 2016.
93,340 | Breg, Inc., Breg Topco Holdings, Accounting Principals, Aerotek, etc | Carlsbad, CA | December 1, 2016.
93,351 | Sunlight Supply Inc | Vancouver, WA | December 6, 2016.
93,353 | Alexion Pharmaceuticals, Inc., Alexion Rhode Island Manufacturing Facility, ADPI, Aerotek Scientific, etc | Smithfield, RI | December 7, 2016.
93,354 | Yuhshin USA Limited, Ortech | Kirksville, MO | December 7, 2016.
93,365 | Beiersdorf Inc., Finance Division, Robert Half | Wilton, CT | December 12, 2016.
93,382 | Honeywell International, Inc., Flourine Products, Turner Industries Group, Triangle Enterprises, etc | Metropolis, IL | December 20, 2016.
93,415 | Allied Ring Corporation, Mahle Engine Components USA, Inc., Riken Corporation of America, Adecco | St. Johns, MI | January 9, 2017.

The following certifications have been issued. The requirements of Section 222(b) (supplier to a firm whose workers are certified eligible to apply for TAA) of the Trade Act have been met.

TA-W No. | Subject firm | Location | Impact date
92,629 | Lone Star Tubular Service Inc | Lone Star, TX | January 8, 2016.
92,882 | Triumph Aerostructures, Triumph Aerospace Structure Division, Triumph Group | Red Oak, TX | May 10, 2016.
92,944 | Alliance Interiors, Detroit Technologies, Conform Automotive, EG Workforce Solutions, etc | Lansing, MI | June 12, 2016.
92,993 | Zodiac Aerospace, Health Tecna, Zodiac Aerospace USA, Zodiac Aerospace, Manpower, etc | Bellingham, WA | July 3, 2016.
93,075 | Yanfeng Global Automotive Interiors, Elwood, Manpower | Lansing, MI | August 11, 2016.
93,090 | Baxter Healthcare Corporation, Baxter International Inc., Aerotek, Apex Systems, Evanston Group, etc | Englewood, CO | August 21, 2016.

The following certifications have been issued. The requirements of Section 222(e) (firms identified by the International Trade Commission) of the Trade Act have been met.

TA-W No. | Subject firm | Location | Impact date
93,292 | J.R. Simplot Company, AgriBusiness, Mining & Manufacturing—Lathrop Plant | Lathrop, CA | March 7, 2016.
93,307 | Archer-Daniels-Midland Company (ADM), Corn Processing, Express Employment Professionals, Aerotek, etc | Decatur, IL | March 7, 2016.
93,317 | Auxin Solar, Inc | San Jose, CA | November 21, 2016.
93,318 | Beamreach Solar, Inc | Milpitas, CA | November 21, 2016.
93,321 | Kyocera Solar, Inc., Kyocera International, Inc | San Diego, CA | November 21, 2016.
93,336 | Suniva, Inc | Norcross, GA | November 21, 2016.
93,375 | SolarTech Universal, LLC | Riviera Beach, FL | November 21, 2016.

Negative Determinations for Worker Adjustment Assistance

In the following cases, the investigation revealed that the eligibility criteria for TAA have not been met for the reasons specified.

The investigation revealed that the requirements of Trade Act section 222(a)(1) and (b)(1) (significant worker total/partial separation or threat of total/partial separation), or (e) (firms identified by the International Trade Commission), have not been met.

TA-W No. | Subject firm | Location | Impact date
92,026A | Daimler Trucks North America, LLC, Service Literature Department | Portland, OR
92,368 | J. Kinderman and Sons, Britestar Manufacturing | Philadelphia, PA
93,183 | North Star BlueScope Steel, LLC, BlueScope | Delta, OH
93,185 | EVRAZ Oregon Steel, EVRAZ Oregon Steel Tubular, EVRAZ Inc. NA, Aerotek | Portland, OR
93,228 | Brooks Automation, Inc | Poway, CA
93,372 | Blue Chip Energy, LLC | Lake Mary, FL

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
91,953 | Mercer Lime Company, Star Group | Slippery Rock, PA
92,026 | Daimler Trucks North America, LLC, Western Star Truck Plant, Daimler AG, Accountemps, Aerotek, Elwood, etc | Portland, OR
92,381A | Seagate Technology LLC, Global Technical Talent | Cupertino, CA
92,614 | Oregon Metallurgical Corporation, ATI Specialty Alloys and Components, Albany Operations, etc | Albany, OR
92,762 | John Deere & Company, Waterloo Works, Ag & Turf Division, SPO | Waterloo, IA
92,762A | John Deere & Company, Waterloo Works, Ag & Turf Division, Engine Works | Waterloo, IA
92,762B | John Deere & Company, Waterloo Works, Ag & Turf Division, Drive Train Operations | Waterloo, IA
92,762C | John Deere & Company, Waterloo Works, Ag & Turf Division, Tractor and Cab Assembly | Waterloo, IA
92,773 | Electrical-Mechanical Solutions Group, LLC | Broussard, LA
92,798 | Jessop Steel, LLC, ATI Flat Rolled Products, Allegheny Technologies Incorporated, etc | Washington, PA
92,859 | Ericsson, Inc., Business Unit Information Technology &amp; Cloud Services (BICS) | Plano, TX
92,937 | Caterpillar Ridgeway, Global Power Solutions, Caterpillar, Inc., Phillips Staffing | Ridgeway, SC
92,986A | Conduent Business Services, Transaction Processing, Conduent Incorporated | Wilsonville, OR
92,986B | Conduent Business Services, Image Solutions, Conduent Incorporated | Wilsonville, OR
93,068 | Noble Energy, Inc., Noble Energy Services, Inc | Houston, TX
93,070 | Symmetry Medical Manufacturing, Inc., New Bedford, Tecomet, Inc | New Bedford, MA
93,122 | Arconic Inc., AFE, Alcoa Inc., Massena Operations, Headway, Stefanini, WCMS | Massena, NY
93,165 | Rideout Health Group, Fremont Rideout Health Group, Trustaff, Maxim, etc | Marysville, CA
93,167 | Davita Medical Management, LLC, HealthCare Partners, TRC Total Renal Care, Davita Kidney Care, Davita, Inc | Denver, CO
93,168 | IBM Entitlement, Manpower | Boulder, CO
93,190 | Rossville Eggo Plant, The Eggo Company, Nesco Staffing, Securitas USA | Rossville, TN
93,191 | Kellogg Sales Company, Memphis Distribution Center, Keebler Company, The Kellogg Company | Memphis, TN
93,203 | EMCORE Corporation | Alhambra, CA
93,225 | ADP, LLC, Added Value Services, Global Enterprise Services, etc | Lynwood, WA
93,242 | Kellogg Sales Company, Kellogg Company, Inconma, ProKatchers, LLC | Hagerstown, MD
93,265 | Kellogg Sales Company, Keebler Division, Kellogg Company | Springfield, MO
93,268 | Gentex Corporation, Manpower, Express Staffing, OnSource Staffing, ERG Staffing, etc | Carbondale, PA
93,270 | Hazelnut Grower of Oregon, Wilco Farmers, Flex Force Personnel | Cornelius, OR
93,310 | GBG USA Inc., Wytheville, VA Distribution Center, GBG North America Holdings, etc | Wytheville, VA

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
92,587 | Weatherford | Woodward, OK
92,782 | Swift Spinning, Inc | Columbus, GA
93,010 | Trico Converting, Inc | Fullerton, CA
93,121 | Suniva, Inc | Norcross, GA

The following determinations terminating investigations were issued in cases where the petition regarding the investigation has been deemed invalid.

TA-W No. | Subject firm | Location | Impact date
93,376 | CenturyLink (formerly Embarq) | Carlisle, PA

The following determinations terminating investigations were issued because the worker group on whose behalf the petition was filed is covered under an existing certification.

TA-W No. | Subject firm | Location | Impact date
92,690 | Crown Casting LLC | Hodges, SC
92,929 | Intel Corporation, Sales and Marketing Group, Technology and Manufacturing Group | Rio Rancho, NM
93,253 | Total Facility Solutions, Inc., M+W Americas, Inc | Plano, TX
93,343 | Harman, Professional, Harman International, Inc., Pro Resources Staffing, Wipro | Elkhart, IN

The following determinations terminating investigations were issued because the petitioning group of workers is covered by an earlier petition that is the subject of an ongoing investigation for which a determination has not yet been issued.

TA-W No. | Subject firm | Location | Impact date
93,362 | Adecco, Oak-Mitsui | Hoosick Falls, NY

I hereby certify that the aforementioned determinations were issued during the period of December 1, 2017 through January 26, 2018. These determinations are available on the Department's website https://www.doleta.gov/tradeact/taa/taa_search_form.cfm under the searchable listing determinations or by calling the Office of Trade Adjustment Assistance toll free at 888-365-6822.

Signed at Washington, DC, January 26, 2018.
Hope D. Kinglock,
Certifying Officer, Office of Trade Adjustment Assistance.

[FR Doc. 2018-04161 Filed 2-28-18; 8:45 am]

BILLING CODE 4510-FN-P